DEPARTMENT OF COMMERCE

International Trade Administration

[A-351-825]

Stainless Steel Bar From Brazil: Extension of Time Limit for Preliminary Results of Antidumping Duty Administrative Review

AGENCY: Import Administration, International Trade Administration, Department of Commerce.

DATES: Effective Date: February 2, 2009.

FOR FURTHER INFORMATION CONTACT: Catherine Cartsos or Minoo Hatten, AD/CVD Operations, Office 5, Import Administration, International Trade Administration, U.S. Department of Commerce, 14th Street and Constitution Avenue, NW., Washington, DC 20230; telephone: (202) 482-1757 or (202) 482-1690, respectively.

SUPPLEMENTARY INFORMATION:

Background

At the request of interested parties, the Department of Commerce (the Department) initiated an administrative review of the antidumping duty order on certain stainless steel bar from Brazil for the period February 1, 2007, through January 31, 2008. See Initiation of Antidumping and Countervailing Duty Administrative Reviews, Request for Revocation in Part, and Deferral of Administrative Review, 73 FR 16837 (March 31, 2008). On October 27, 2008, we extended the time period for issuing the preliminary results of the review by 90 days until January 29, 2009. See Stainless Steel Bar From Brazil: Extension of Time Limit for Preliminary Results of Antidumping Duty Administrative Review, 73 FR 63695 (October 27, 2008).

Extension of Time Limit for Preliminary Results

Section 751(a)(3)(A) of the Tariff Act of 1930, as amended (the Act), requires the Department to make a preliminary determination within 245 days after the last day of the anniversary month of an order for which a review is requested and a final determination within 120 days after the date on which the preliminary determination is published. If it is not practicable to complete the review within these time periods, section 751(a)(3)(A) of the Act allows the Department to extend the time limit for the preliminary determination to a maximum of 365 days after the last day of the anniversary month. See also 19 CFR 351.213(h).

We determine that it is not practicable to complete the preliminary results of this review by the current deadline of January 29, 2009, for several reasons. Specifically, the Department has granted the respondent, Villares Metals S.A. (Villares), several extensions to respond to the original and supplemental questionnaires.¹ Thus, the Department needs additional time to review and analyze the responses submitted by Villares. Further, the Department requires additional time to review issues such as corporate affiliations and steel grades of products reported by Villares, as it will affect the Department's matching methodology in this case. Finally, in response to the petitioners' cost allegation submitted on November 4, 2008, we initiated a cost investigation on December 2, 2008, and received Villares's cost information on January 9, 2009. The Department requires additional time to review and analyze Villares's cost information. Therefore, we are extending the time period for issuing the preliminary results of this review by 30 days until February 28, 2009.

¹ See, e.g., letters to Villares from Laurie Parkhill, dated April 18, 2008, May 22, 2008, July 11, 2008, July 30, 2008, and December 19, 2008.

This notice is published in accordance with sections 751(a)(3)(A) and 777(i)(1) of the Act and 19 CFR 351.213(h)(2).

Dated: January 26, 2009.
John M. Andersen,
Acting Deputy Assistant Secretary for Antidumping and Countervailing Duty Operations.

[FR Doc. E9-2184 Filed 1-30-09; 8:45 am]

BILLING CODE 3510-DS-P